DEPARTMENT OF TRANSPORTATION

Federal Highway Administration

Notice of Final Federal Agency Action on Proposed Bridge Replacement in Massachusetts

AGENCY: Federal Highway Administration (FHWA), DOT.

ACTION: Notice of Limitations on Claims for Judicial Review of Action by FHWA and the United States Army Corps of Engineers (USACE).

SUMMARY: This notice announces action taken by the FHWA and the United States Army Corps of Engineers (USACE) that is final within the meaning of 23 U.S.C. Sec. 139(l)(1). The actions relate to the proposed Mitchell River Bridge (Bridge Street over the Mitchell River) Replacement Project in Chatham-Barnstable County, Massachusetts. The action grants an approval for the project.

DATES: By this notice, the FHWA is advising the public of final agency actions subject to 23 U.S.C. 139(l)(1). A claim seeking judicial review of the Federal agency actions on the bridge project will be barred unless the claim is filed on or before November 30, 2013.

FOR FURTHER INFORMATION CONTACT: For FHWA: Mr. Michael Chong, FHWA Massachusetts Division Office, 55 Broadway, 10th Floor, Cambridge, MA 02142, 617-494-3275, michael.chong@dot.gov. For Massachusetts Department of Transportation (MassDOT) Highway Division: Michael Bastoni, Project Manager, MassDOT Highway Division, 10 Park Plaza, Room 6500, Boston, MA 02116, 9:00 a.m. to 5:00 p.m., 857-368-8789, michael.bastoni@state.ma.us.

SUPPLEMENTARY INFORMATION: Notice is hereby given that the FHWA and USACE have taken final agency action subject to 23 U.S.C. 139(l)(1) by issuing approval for the following bridge project in the Commonwealth of Massachusetts. The project consists of replacing the existing Mitchell River Bridge with a new bridge that will consist generally of an all timber superstructure (including the wearing surface, structural deck, beams, sidewalks, and railings) with the exception of the bascule leaf frame. The superstructure would be supported on pile bent substructure units constructed with concrete-filled steel piles and concrete caps. The bascule span superstructure consists of a timber roadway deck and sidewalks on steel open grid flooring panels on the concrete bascule pier substructure. Additional improvements include transitioning and resurfacing of the approach roadways. The navigable channel will also be shifted 5 feet to the west and widened to provide 25 feet of horizontal clearance, fender to fender. The actions by the Federal agencies, and the laws under which the actions were taken, are described in the Environmental Assessment (EA), for which a Finding of No Significant Impact (FONSI) was issued on May 30, 2013. Notice is hereby given that the USACE has taken final agency actions within the meaning of 23 U.S.C. § 139(l)(1) by issuing permits and approvals for this bridge replacement project. The actions by the USACE, related final actions by other Federal agencies, and the laws under which such actions were taken, are described in the USACE decision and its administrative record for the project, referenced as USACE Permit Number NAE-2012-02157. The EA, FONSI and other project records are available by contacting MassDOT at the address provided above. Information about the project is also available from the FHWA at the address provided above.

This notice applies to all FHWA and USACE and other Federal agency final actions taken after the issuance date of the FHWA Federal Register notice described above. The laws under which actions were taken include, but are not limited to:

1. National Environmental Policy Act of 1969, and

2. Section 404 of the Clean Water Act of 1972

Authority: 23 U.S.C. 139(l)(1).

Issued on: June 24, 2013.
Pamela S. Stephenson,
Division Administrator, Cambridge.

[FR Doc. 2013-15755 Filed 7-2-13; 8:45 am]

BILLING CODE 4910-RY-P